ENVIRONMENTAL PROTECTION AGENCY

[EPA-HQ-ORD-2015-0765; FRL-12456-01-ORD]

EPA Database Calibrated Assessment Product (DCAP) Panel Under the Board of Scientific Counselors (BOSC)—January 2025

AGENCY: Environmental Protection Agency (EPA).

ACTION: Notice of public meeting.

SUMMARY: Pursuant to the Federal Advisory Committee Act (FACA), the U.S. Environmental Protection Agency (EPA) is announcing a public meeting. The EPA has selected technical experts to serve as Special Government Employees (SGEs) on a review panel under the authority of the Board of Scientific Counselors (BOSC), a Federal advisory committee to the Office of Research and Development (ORD). Selected experts will review ORD's draft documents detailing the development and implementation of the Database Calibrated Assessment Product (DCAP). The DCAP is a proposed new ORD human health assessment product that is intended to be applied to substances with existing, publicly accessible in vivo repeat-dose toxicity studies, but lacking expert-derived human health assessments from authoritative sources. DCAP is a methods-based approach to develop oral, non-cancer human health assessments that inform timely decisions by EPA and external stakeholders using a scalable and transparent process.

DATES: The meeting will be held on Thursday, January 16, 2025, from 9 a.m. to 6 p.m. and Friday, January 17, 2025, from 9 a.m. to 5:15 p.m. All times noted are Eastern Time and approximate. The meeting may adjourn early if all business is finished. Attendees should register by Saturday, January 11, 2025, at https://us-epa-ord-dcap-panel-meeting.eventbrite.com. Attendees have the option to attend the meeting in-person or virtually and should indicate the type of attendance upon registration. Requests for making oral presentations at the meeting will be accepted through noon Eastern Time on Monday, January 6, 2025, and individuals making an oral presentation will be limited to a total of three minutes. Comments may be submitted through noon Eastern Time on Monday, January 6, 2025.

ADDRESSES: The meeting will be held at the EPA's Research Triangle Park Main Campus Facility, 109 T.W. Alexander Drive, Research Triangle Park, North Carolina 27711. Submit your comments to Docket ID No. EPA-HQ-ORD-2015-0765 by one of the following methods:

• www.regulations.gov: Follow the on-line instructions for submitting comments.

• Email: Send comments by electronic mail (email) to: ORD.Docket@epa.gov, Attention Docket ID No. EPA-HQ-ORD-2015-0765.

• Fax: Fax comments to: (202) 566-0224, Attention Docket ID No. EPA-HQ-ORD-2015-0765.

• Mail: Send comments by mail to: Board of Scientific Counselors (BOSC) Executive Committee Docket, Mail Code: 2822T, 1301 Constitution Ave. NW, Washington, DC 20004, Attention Docket ID No. EPA-HQ-ORD-2015-0765.

• Hand Delivery or Courier: Deliver comments to: EPA Docket Center (EPA/DC), Room 3334, William Jefferson Clinton West Building, 1301 Constitution Ave. NW, Washington, DC, Attention Docket ID No. EPA-HQ-ORD-2015-0765. Note: This is not a mailing address. Deliveries are only accepted during the docket's normal hours of operation, and special arrangements should be made for deliveries of boxed information.

Instructions: The EPA's policy is that all comments received will be included in the public docket without change and may be made available online at www.regulations.gov, including any personal information provided unless the comment includes information claimed to be Confidential Business Information (CBI) or other information whose disclosure is restricted by statute. Do not submit information that you consider to be CBI or otherwise protected through www.regulations.gov or email. The www.regulations.gov website is an “anonymous access” system, which means the EPA will not know your identity or contact information unless you provide it in the body of your comment. If you send an email comment directly to the EPA without going through www.regulations.gov, your email address will be automatically captured and included as part of the comment that is placed in the public docket and made available on the internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at https://www.epa.gov/dockets/.

FOR FURTHER INFORMATION CONTACT: The Designated Federal Officer (DFO), Tom Tracy, via phone/voicemail at: (919) 541-4334; or via email at: tracy.tom@epa.gov.

Meeting access: This meeting will be open to the public; attendees should register online at https://us-epa-ord-dcap-panel-meeting.eventbrite.com and indicate whether their attendance will be in-person or virtual. The full agenda and meeting materials will be available prior to the start of the meeting at the BOSC website: https://www.epa.gov/bosc. For questions on document availability, or if you do not have access to the internet, consult with the DFO, Tom Tracy, listed under FOR FURTHER INFORMATION CONTACT.

SUPPLEMENTARY INFORMATION: For security purposes, all in-person attendees must provide their names to the DFO by registering online at https://us-epa-ord-dcap-panel-meeting.eventbrite.com by January 11, 2025, and must go through a metal detector, sign in with the security desk, and show REAL ID Act-compliant government-issued photo identification to enter the building. Attendees are encouraged to arrive at least 15 minutes prior to the start of the meeting to allow enough time for security screening. Proposed agenda items for the meeting include but are not limited to the following: Review of charge questions, overview of the report describing the process to develop the Database Calibrated Assessment Product, overview of the proposed implementation of the new human health assessment product, and subcommittee deliberations.

Information on Services for Individuals with Disabilities: For information on access or services for individuals with disabilities, please contact Tom Tracy at (919) 541-4334 or tracy.tom@epa.gov. To request accommodation of a disability, please contact Tom Tracy, preferably at least ten days prior to the meeting, to give the EPA as much time as possible to process your request.

Kathleen Deener,
Director, Office of Science Advisor, Policy, and Engagement.

[FR Doc. 2024-29242 Filed 12-12-24; 8:45 am]

BILLING CODE 6560-50-P